DEPARTMENT OF TRANSPORTATION

Federal Aviation Administration

14 CFR Part 39

[Docket No. FAA-2007-0049; Directorate Identifier 2007-NM-168-AD; Amendment 39-15478; AD 2008-08-24]

RIN 2120-AA64

Airworthiness Directives; Boeing Model 737-600, -700, -700C, -800, and -900 Series Airplanes

AGENCY: Federal Aviation Administration (FAA), DOT.

ACTION: Final rule.

SUMMARY: We are adopting a new airworthiness directive (AD) for certain Boeing Model 737-600, -700, -700C, -800, and -900 series airplanes. This AD requires replacing the drain tube assemblies and support clamps on the aft fairing of the engine struts. This AD results from reports of failure of the drain tube assembly and clamp on the aft fairings of an engine strut. We are issuing this AD to prevent failure of the drain tube assemblies and clamps on the aft fairings of the of the engine struts. Such a failure could allow leaked flammable fluids in the drain systems to discharge on to the heat shields of the aft fairings of the engine struts, which could result in an undetected and uncontrollable fire.

DATES: This AD is effective May 27, 2008.

The Director of the Federal Register approved the incorporation by reference of a certain publication listed in this AD as of May 27, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Samuel Spitzer, Aerospace Engineer, Propulsion Branch, ANM-140S, FAA, Seattle Aircraft Certification Office, 1601 Lind Avenue, SW., Renton, Washington 98057-3356; telephone (425) 917-6510; fax (425) 917-6590.

SUPPLEMENTARY INFORMATION:

Discussion

We issued a notice of proposed rulemaking (NPRM) to amend 14 CFR part 39 to include an airworthiness directive (AD) that would apply to certain Boeing Model 737-600, -700, -700C, -800, and -900 series airplanes. That NPRM was published in the Federal Register on October 17, 2007 (72 FR 58773). That NPRM proposed to require replacing the drain tube assemblies and support clamps on the aft fairings of the engine struts.

Comments

We gave the public the opportunity to participate in developing this AD. We considered the comments received from the two commenters.

Support for the NPRM

Boeing supports the NPRM.

Request for Revision of Compliance Time

The Air Transport Association (ATA), on behalf of a member, American Airlines, requests that the compliance time specified in paragraph (f) of the NPRM be revised from 60 to 72 months. The ATA states that the operators' routine maintenance schedules may not allow for accomplishment of the proposed replacement on affected aircraft within the proposed compliance time, and thus operators would incur additional costs associated with special scheduling.

We do not agree with the commenter's request to extend the compliance time. In developing an appropriate compliance time for this action, we considered the urgency associated with the subject unsafe condition, the availability of required parts, and the practical aspect of accomplishing the required replacement within a period of time that corresponds to the normal scheduled maintenance for most affected operators. However, according to the provisions of paragraph (g) of the final rule, we may approve requests to adjust the compliance time if the request includes data that prove that the new compliance time would provide an acceptable level of safety.

Request To Change the Work Hours of the “Costs of Compliance” Section

The ATA also requests that the work hours specified in the “Costs of Compliance” section of the NPRM be changed from 4 to 10.5 work hours. The ATA states that Boeing Special Attention Service Bulletin 737-54-1043, dated May 2, 2007 (referred to as the appropriate source of service information for accomplishing the proposed actions in the NPRM), includes 7 work hours for open and close access. The ATA states that such a change will provide a better representation of the time included in the service bulletin.

We do not agree with the ATA's request to increase the work hours specified in the “Costs of Compliance” section of the NPRM. That section describes only the direct costs of the specific actions required by this AD. Based on the best data available, the manufacturer provided the number of work hours (four) necessary to do the required actions. This number represents the time necessary to perform only the actions actually required by this AD. We recognize that, in doing the actions required by an AD, operators might incur incidental costs in addition to the direct costs. The cost analysis in AD rulemaking actions, however, typically does not include incidental costs such as the time required to gain access and close up, time necessary for planning, or time necessitated by other administrative actions. Those incidental costs, which might vary significantly among operators, are almost impossible to calculate. Therefore, we have made no change to the AD in this regard.

Clarification of Replacement

For clarification purposes, we have revised paragraph (f) from: “Within 60 months after the effective date of this AD, remove the drain tube assemblies and support clamps on the aft fairing of the struts of engine number 1 and engine number 2. These are to be replaced with new drain tube assemblies and clamps * * *” to: “Within 60 months after the effective date of this AD, replace the drain tube assemblies and support clamps on the aft fairing of the struts of engine number 1 and engine number 2 with new drain tube assemblies and clamps * * *” to provide consistency of terminology.

Conclusion

We reviewed the relevant data, considered the comments received, and determined that air safety and the public interest require adopting the AD with the change described previously. We also determined that this change will not increase the economic burden on any operator or increase the scope of the AD.

Costs of Compliance

There are about 2,058 airplanes of the affected design in the worldwide fleet. This AD affects about 721 airplanes of U.S. registry. The actions take about 4 work hours per airplane, at an average labor rate of $80 per work hour. Required parts cost about $2,351 per airplane. Based on these figures, the estimated cost of this AD for U.S. operators is $1,925,791, or $2,671 per airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by Reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-08-24 Boeing: Amendment 39-15478. Docket No. FAA-2007-0049; Directorate Identifier 2007-NM-168-AD.

Effective Date

(a) This airworthiness directive (AD) is effective May 27, 2008.

Affected ADs

(b) None.

Applicability

(c) This AD applies to Boeing Model 737-600, -700, -700C, -800, and -900 series airplanes, certificated in any category; as identified in Boeing Special Attention Service Bulletin 737-54-1043, dated May 2, 2007.

Unsafe Condition

(d) This AD results from reports of failure of the drain tube assembly and support clamp on the aft fairing of an engine strut. We are issuing this AD to prevent failure of the drain tube assemblies and clamps on the aft fairings of the engine struts. Such a failure could allow leaked flammable fluids in the drain systems to discharge on to the heat shields of the aft fairings of the engine struts, which could result in an undetected and uncontrollable fire.

Compliance

(e) You are responsible for having the actions required by this AD performed within the compliance times specified, unless the actions have already been done.

Replacement

(f) Within 60 months after the effective date of this AD, replace the drain tube assemblies and support clamps on the aft fairing of the struts of engine number 1 and engine number 2 with new drain tube assemblies and clamps, in accordance with the Accomplishment Instructions of Boeing Special Attention Service Bulletin 737-54-1043, dated May 2, 2007.

Alternative Methods of Compliance (AMOCs)

(g)(1) The Manager, Seattle Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(h) You must use Boeing Special Attention Service Bulletin 737-54-1043, dated May 2, 2007, to do the actions required by this AD, unless the AD specifies otherwise.

(1) The Director of the Federal Register approved the incorporation by reference of this service information under 5 U.S.C. 552(a) and 1 CFR part 51.

(2) For service information identified in this AD, contact Boeing Commercial Airplanes, P.O. Box 3707, Seattle, Washington 98124-2207.

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on April 8, 2008.
Ali Bahrami,
Manager, Transport Airplane Directorate, Aircraft Certification Service.

[FR Doc. E8-8328 Filed 4-18-08; 8:45 am]

BILLING CODE 4910-13-P